ENVIRONMENTAL PROTECTION AGENCY

[EPA-HQ-OEI-2008-0225; FRL-8564-5]

Agency Information Collection Activities; Proposed Collection; Comment Request; Tribal Capacity: Determining the Capability to Participate in the National Environmental Information Exchange Network; EPA ICR No. 2299.01, OMB Control No. 2025—New

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before date July 11, 2008.

ADDRESSES: Submit your comments, identified by Docket ID No. EPA-HQ-OEI-2008-0225, by one of the following methods:

• http://www.regulations.gov: Follow the on-line instructions for submitting comments.

• E-mail: forrest.terry@epa.gov.

• Fax: (202) 566-1624.

• Mail: Tribal Capacity: Determining the capability to participate in the National Environmental Information Exchange Network Program, Environmental Protection Agency, MC 2823T, 1200 Pennsylvania Ave., NW., Washington, DC 20460; Hand Delivery: EPA Docket Center, EPA West Bldg, Room 3334, 1301 Constitution Ave., NW., Washington, DC 20460. Such deliveries are only accepted during the Docket's normal hours of operation, and special arrangements should be made for deliveries of boxed information.

Instructions: Direct your comments to Docket ID No. EPA-HQ-OEI-2008-0225. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Tribal Capacity: Determining the Capability To Participate in the National Environmental Information Exchange Network Program or William Terry Forrest of OEI/OIC/IESD/IEPB at MC 2823-T, Environmental Protection Agency, 1200 Pennsylvania Ave., NW., Washington, DC 20460; telephone number: 202-566-0196; fax number: 202-566-1624; e-mail address: forrest.terry@epa.gov.

SUPPLEMENTARY INFORMATION:

How Can I Access the Docket and/or Submit Comments?

EPA has established a public docket for this ICR under Docket ID No. EPA-HQ-OEI-2008-0225 Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Tribal Capacity: Determining the Capability To Participate in the National Environmental Information Exchange Network Program Docket is 202-566-0196.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Docket ID No. EPA-HQ-OEI-2008-0225

Affected entities: Entities potentially affected by this action are Federally recognized Indian Tribes.

Title: Tribal Capacity: Determining the Capability To Participate in the National Environmental Information Exchange Network Program.

ICR numbers: EPA ICR No. 2299.01. OMB Control No. 2025—new.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Environmental Information Exchange Network (Exchange Network) is an Internet-based approach for exchanging environmental data among partners (e.g., EPA, states, tribes and territories). Built on the principles of applying data standards; providing secure, real-time access; and electronically collecting and storing accurate information, the Exchange Network enables participants to control and manage their own data while making it available to partners via requests over a secure Internet connection. By facilitating the efficient exchange of environmental information among interested parties at all levels of government, the Exchange Network has begun to transform the way information is shared.

While some Indian Tribes have been active partners in the Exchange Network, overall tribal participation is limited. EPA has issued grants that fund infrastructure and other support needed to share data on the network to just over 50 tribes or less than 10 percent of the more than 500 federally recognized tribes. Of these, eight have exchanged data over the network and another five are developing the infrastructure required to do so.

To expand tribal participation in the Exchange Network, EPA has been working with the National Congress of American Indians (NCAI) under a series of cooperative agreements. NCAI is planning to conduct a baseline assessment survey to obtain data to help identify barriers and other factors that are limiting tribal participation in the Network. The survey will focus on gathering information related to collection and dissemination of environmental data; information technology infrastructure, capacity, and needs; and awareness of the Exchange Network. The survey will be distributed to all federally recognized tribes that are members of NCAI. Response to the survey is voluntary. NCAI will use the findings of this survey to design programs to broaden tribal participation.

Burden Statement: The annual public reporting and recordkeeping burden for this collection of information is estimated to average 30 minutes per response.

The ICR provides a detailed explanation of the Agency's estimate, which is only briefly summarized here:

Estimated total number of potential respondents: 250.

Frequency of response: Once.

Estimated total average number of responses for each respondent: One.

Estimated total annual burden hours: 125 hours.

Estimated total annual costs: $ -0-. This includes an estimated burden cost of $-0- and an estimated cost of $-0- for capital investment or maintenance and operational costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: April 25, 2008.
Doreen Sterling,
Director, Office of Information Collection, Information Exchange & Services Division.

[FR Doc. E8-10505 Filed 5-9-08; 8:45 am]

BILLING CODE 6560-50-P